DEPARTMENT OF EDUCATION

Notice of Proposed Information Collection Requests

AGENCY: Department of Education.

SUMMARY: The IC Clearance Official, Regulatory Information Management Services, Office of Management, invites comments on the proposed information collection requests as required by the Paperwork Reduction Act of 1995.

DATES: Interested persons are invited to submit comments on or before July 14, 2008.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: May 8, 2008.
Angela C. Arrington,
IC Clearance Official, Regulatory Information Management Services, Office of Management.

Office of Vocational and Adult Education

Type of Review: New.

Title: Strengthening Adult Reading Instructional Practices (SARIP).

Frequency: Learner respondents will report twice; instructor respondents will report once for two instruments and weekly for 15 weeks.

Affected Public: Individuals or household.

Reporting and Recordkeeping Hour Burden:

Responses: 4,734.

Burden Hours: 1,431.

Abstract: The SARIP Study is an initial investigation of whether the Study Achievement in Reading (STAR) training and materials are effective in developing adult basic education (ABE) instructors' capability to deliver evidence-based reading instruction and consequently, in improving intermediate-level (4th-8.9th grade equivalence) adult learners' reading skills. The study will employ a quasi-experimental design to examine whether learners who are taught by ABE instructors that have been trained in the STAR methods and materials and have become proficient in these methods make greater gains in developing their reading skills compared to learners who have been taught by ABE instructors that have not participated in STAR. The treatment learners will be compared to data from a matched sample of adult learners that have not participated in STAR. The comparison group will be drawn from extant data from two previous studies on adult learners' development of reading skills. The learner data collected in the SARIP study will be used by the U.S. Department of Education to assess the preliminary learner reading outcomes from the STAR intervention and to determine whether a more rigorous evaluation of STAR should be undertaken at this point in the implementation of STAR. The data collected in the SARIP study about the delivery of instruction by teachers trained in STAR will be used by the U.S. Department of Education to review the STAR training and to determine whether modifications may be needed in the STAR training. The information about ABE programs collected in the study will be used by the U.S. Department of Education and state adult education offices to provide guidance to local ABE providers about the types of ABE program practices that may support the delivery of effective reading instruction.

Requests for copies of the proposed information collection request may be accessed from http://edicsweb.ed.gov, by selecting the “Browse Pending Collections” link and by clicking on link number 3681. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-10756 Filed 5-13-08; 8:45 am]

BILLING CODE 4000-01-P